DEPARTMENT OF COMMERCE

National Oceanic and Atmospheric Administration

[ I.D. 062305A]

Gulf of Mexico Fishery Management Council; Public Meetings

AGENCY: National Marine Fisheries Service (NMFS), National Oceanic and Atmospheric Administration (NOAA), Commerce.

ACTION: Notice of Public Hearings.

SUMMARY: The Gulf of Mexico Fishery Management Council (Council) will convene will hold a series of public workshops to provide information about, and seek input on, ecosystem objectives for fisheries management.

DATES: The workshops will be held from July 11 through August 3 at nine locations throughout the Gulf of Mexico. For specific dates and times see SUPPLEMENTARY INFORMATION.

ADDRESSES: The workshops will be held in the following locations: Fort Myers Beach, Tampa, Key West, and Panama City, Florida; St. Rose, Louisiana; Biloxi, Mississippi; Orange Beach, Alabama; and Galveston and Corpus Christi, Texas. For specific dates and times see SUPPLEMENTARY INFORMATION.

Council address: Gulf of Mexico Fishery Management Council, 3018 North U.S. Highway 301, Suite 1000, Tampa, FL 33619.

FOR FURTHER INFORMATION CONTACT: Mr. Steven Atran, Population Dynamics Statistician, Gulf of Mexico Fishery Management Council; telephone: 813.228.2815.

SUPPLEMENTARY INFORMATION: The Gulf of Mexico Fishery Management Council (Council) will hold a series of public workshops to provide information about, and seek input on, ecosystem objectives for fisheries management. The Gulf of Mexico Fishery Management Council (Council) is one of four Councils participating in a pilot project to develop an ecosystem approach to fisheries management (the four Councils in the pilot project are New England, Mid-Atlantic, South Atlantic, and Gulf of Mexico).

One of the initial tasks of this project for the Council is to hold a series of public meetings seeking input regarding ecosystem objectives for fisheries management. The purpose of these meetings will be to facilitate wide-ranging discussions with stakeholder groups and the general public in eight topic areas: (1) views regarding the adequacy of current approaches for addressing ecosystem considerations, (2) the nature of ecosystem-based management and the goals to be achieved in addressing ecosystem issues, (3) the nature of the public decision making processes within the Council for addressing management tradeoffs, consistent with identified goals, (4) mechanisms for considering activities outside the Council's purview but influencing ecosystem productivity, (5) the boundaries of sub-regional ecosystems within the Gulf of Mexico, (6) the types of management measures that would be incorporated into ecosystem approaches for fishery management, consistent with the identified goals, (7) the specific regional issues that need to be addressed in a fisheries ecosystem plan (FEP), (8) techniques for determining success of ecosystem-based management, and (9) other issues considered important to the stakeholders in the Gulf region.

The public workshops will be conducted by an independent facilitator, who will report the results to the Council at its September 2005 meeting in New Orleans, LA. The workshops will begin at 7 p.m. and conclude no later than 9 p.m. at the following locations and dates:

Monday, July 11, 2005, DiamondHead Beach Resort, 2000 Estero Boulevard, Fort Myers Beach, FL 33931, 888.627.1595;

Monday, July 18, 2005, Best Western The Westshore Hotel, 1200 North Westshore Boulevard, Tampa, FL 33607, 813.282.3636;

Tuesday, July 19, 2005, DoubleTree Grand Key Resort, 3990 S. Roosevelt Boulevard, Key West, FL 33040, 888.310.1540;

Monday, July 25, 2005, Mississippi Department of Marine Resources, 1141 Bayview Drive, Biloxi, MS 39530, 228.374.5000;

Tuesday, July 26, 2005, Orange Beach Community Center, 4849 Wilson Boulevard, Orange Beach, AL 36561, 251.981.6028;

Wendesday, July 27, 2005, NMFS Panama City Lab, 3500 Delwood Beach Road, Panama City, FL 32408, 850.234.6541;

Monday, August 1, 2005, New Orleans Airport Ramada Inn and Suites, 110 James Drive East, St. Rose, LA 70087, 504.466.1355;

Tuesday, August 2, 2005, The San Luis Resort, 5222 Seawall Boulevard, Galveston Island, TX 77551, 409.744.1500;

Wednesday, August 3, 2005, Omni Corpus Christi Hotel, Bayfront Tower, 900 North Shoreline, Corpus Christi, TX 78401, 361.887.1600.

Special Accommodations

These meetings are physically accessible to people with disabilities. Requests for sign language interpretation or other auxiliary aids should be directed to Dawn Aring at the Council (see ADDRESSES) by June 27, 2005.

Dated: June 23, 2005.
Emily Menashes,
Acting Director, Office of Sustainable Fisheries, National Marine Fisheries Service.

[FR Doc. E5-3344 Filed 6-27-05; 8:45 am]

BILLING CODE 3510-22-S